INTERNATIONAL TRADE COMMISSION

Sunshine Act Meeting

Time and Date: October 29, 2002 at 10 a.m.

Place: Room 101, 500 E Street SW., Washington, DC 20436, Telephone: (202) 205-2000.

Status: Open to the public.

Matters to be Considered:

1. Agenda for future meetings: None.

2. Minutes.

3. Ratification List.

4. Inv. Nos. TA-421-1 (Remedy) (Pedestal Actuators from China)—briefing and vote. (The Commission is currently scheduled to transmit its views and remedy proposals to the President and U.S. Trade Representative on November 7, 2002.)

5. Outstanding action jackets: None.

In accordance with Commission policy, subject matter listed above, not disposed of at the scheduled meeting, may be carried over to the agenda of the following meeting.

By order of the Commission.
Issued: October 18, 2002.
Marilyn R. Abbott,
Secretary to the Commission.

[FR Doc. 02-27089 Filed 10-21-02; 11:03 am]

BILLING CODE 7020-02-P